DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census Classification Report.

Form Number(s): NC-99026.

Agency Approval Number: None.

Type of Request: New collection.

Burden: FY 2002-13,333, FY-2003-37,500.

Number of Respondents: 610,000.

Avg. Hours Per Response: 5 minutes.

Needs and Uses: The Census Bureau implemented the new North American Industry Classification System (NAICS) for the 1997 Economic Census to replace the 1987 Standard Industrial Classification (SIC) system. The NAICS has been revised for the 2002 Economic Census. Many of the revisions significantly impact the Construction Sector. In order to provide detailed construction industry statistics reflecting NAICS revisions for the 2002 Economic Census, the Census Bureau will use the NC-99026, 2002 Economic Census Classification Report, to collect additional information from a sample of construction businesses.

Specifically, the Census Bureau will select a sample from the following groups of establishments: (1) Any single-unit construction establishment that is only partially coded or (2) any single-unit construction establishment that is currently classified in a NAICS industry that will be split into two or more NAICS industries for the 2002 Economic Census. The information collected will be used to assign the appropriate NAICS codes, update the Business Register (Standard Statistical Establishment List (SSEL)) and mailing list, improve the sampling frame, and ensure that the correct form is delivered during the initial mailing for the census. This information will be collected in 2001 (prior to the census).

During the 2002 Economic Census, the NC-99026 questionnaire also will be used to obtain classification information from partially coded small single-unit manufacturing, mining, and construction establishments, and construction establishments not receiving either a classification report form in 2001 or a more detailed Census of Construction form in the 2002 Economic Census.

Affected Public: Businesses or other for-profit organizations, not-for-profit institutions.

Frequency: Every five years.

Respondent's Obligation: Mandatory.

Legal Authority: Title 13 U.S.C., Sections 131 and 224.

OMB Desk Officer: Susan Schechter, (202) 395-5103.

Copies of the above information collection proposal can be obtained by calling or writing Madeleine Clayton, Departmental Paperwork Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: June 1, 2001.
Madeleine Clayton,
Departmental Paperwork Clearance Officer, Office of the Chief Information Officer.

[FR Doc. 01-14242 Filed 6-5-01; 8:45 am]

BILLING CODE 3510-07-P